DEPARTMENT OF COMMERCE

National Oceanic and Atmospheric Administration

50 CFR Part 648

RIN 0648-BC77

Fisheries of the Northeastern United States; Spiny Dogfish Fishery; Amendment 3 to the Spiny Dogfish Fishery Management Plan

AGENCY: National Marine Fisheries Service (NMFS), National Oceanic and Atmospheric Administration (NOAA), Commerce.

ACTION: Notice of availability of a fishery management plan amendment; request for comments.

SUMMARY: NMFS announces that the Mid-Atlantic and New England Fishery Management Councils have submitted Amendment 3 to the Spiny Dogfish Fishery Management Plan for review by the Secretary of Commerce. NMFS is requesting comments from the public on the Amendment, which was developed by the Councils to improve the efficiency of the spiny dogfish fishery. Amendment 3 would implement a research set-aside program, update essential fish habitat definitions for spiny dogfish, allow carryover of management measures from one year to the next, and remove the seasonal allocation of the commercial quota.

DATES: Comments must be received on or before May 27, 2014.

ADDRESSES: Copies of the amendment, including the Environmental Assessment and Initial Regulatory Flexibility Analysis (EA/IRFA) and other supporting documents for the action are available from Dr. Christopher M. Moore, Executive Director, Mid-Atlantic Fishery Management Council, Suite 201, 800 N. State Street, Dover, DE 19901. The amendment is also accessible via the Internet at: http://www.nero.noaa.gov.

You may submit comments, identified by NOAA-NMFS-2014-0036, by any one of the following methods:

• Electronic Submissions: Submit all electronic public comments via the Federal e-Rulemaking portal. Go to www.regulations.gov/#!docketDetail;D=NOAA-NMFS-2014-0036, click the “Comment Now!” icon, complete the required fields, and enter or attach your comments.

• Mail: NMFS, Greater Atlantic Regional Fisheries Office, 55 Great Republic Drive, Gloucester, MA 01930. Mark the outside of the envelope “Comments on Spiny Dogfish Amendment 3.”

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF formats only.

FOR FURTHER INFORMATION CONTACT: Tobey Curtis, Fishery Policy Analyst, (978) 281-9273.

SUPPLEMENTARY INFORMATION:

Background

The Atlantic spiny dogfish (Squalus acanthias) fishery is jointly managed by the New England and Mid-Atlantic Fishery Management Councils (Councils). The Atlantic States Marine Fisheries Commission (Commission) also manages the spiny dogfish fishery in state waters from Maine to North Carolina through an interstate fishery management plan (FMP). The Federal Spiny Dogfish FMP was implemented in 2000, when spiny dogfish were determined to be overfished. The spiny dogfish stock was declared to be successfully rebuilt in 2010, and it continues to be above its target biomass.

The regulations implementing the FMP at 50 CFR part 648, subpart L, outline the management procedures and measures for the spiny dogfish fishery. The Councils have developed and submitted Amendment 3, which is intended to update the FMP and improve management of the spiny dogfish fishery. Specifically, the Councils have recommended: (1) Adding an option for allocation of a small percentage (up to 3 percent) of the commercial quota for use in the Research Set-Aside (RSA) Program; (2) updating the definitions of essential fish habitat (EFH) for all life stages of spiny dogfish; (3) maintaining existing annual management measures until replaced via rulemaking (e.g., quota rollover); and (4) eliminating the seasonal allocation of the commercial quota in order to minimize conflicts with spiny dogfish fishing operations that occur in both state and Federal waters.

This last action would improve alignment with the Commission's Interstate FMP for spiny dogfish. The Commission's FMP allocates the commercial quota by state/region, in contrast to the Federal FMP, which currently allocates the commercial quota to two semi-annual seasons. These different management approaches have occasionally resulted in misaligned in-season fishery closures between Federal and state waters, and confusion within the industry regarding where they can fish. This amendment is expected to help alleviate these issues by removing the Federal FMP's quota allocation scheme.

Public comments are solicited on Amendment 3 and its incorporated documents through the end of the comment period (see DATES). A proposed rule that would implement Amendment 3 will be published in the Federal Register for public comment. Public comments on the proposed rule must be received by the end of the comment period provided in this notice of availability of Amendment 3 to be considered in the approval/disapproval decision on the amendment. All comments received by May 27, 2014, whether specifically directed to Amendment 3 or the proposed rule for Amendment 3, will be considered in the approval/disapproval decision on Amendment 3. Comments received after that date will not be considered in the decision to approve or disapprove Amendment 3. To be considered, comments must be received by close of business on the last day of the comment period.

Authority: 16 U.S.C. 1801 et seq.

Dated: March 19, 2014.
Emily H. Menashes,
Acting Director, Office of Sustainable Fisheries, National Marine Fisheries Service.

[FR Doc. 2014-06480 Filed 3-25-14; 8:45 am]

BILLING CODE 3510-22-P